SECURITIES AND EXCHANGE COMMISSION

Sunshine Act Meeting Notice.

FEDERAL REGISTER CITATION OF PREVIOUS ANNOUNCEMENT: [77 FR 64836, October 23, 2012]

STATUS: Closed Meeting.

PLACE: 100 F Street NE., Washington, DC.

DATE AND TIME OF PREVIOUSLY ANNOUNCED MEETING: Tuesday, October 23, 2012 at 3:00 p.m.

CHANGE IN THE MEETING: Date and Time Change.

The Closed Meeting scheduled for Tuesday, October 23, 2012 at 3:00 p.m., has been changed to Thursday, October 25, 2012 at 10:00 a.m.

Commissioner Walter, as duty officer, voted to consider the item listed for the Closed Meeting in closed session, and determined that no earlier notice thereof was possible.

At times, changes in Commission priorities require alterations in the scheduling of meeting items. For further information and to ascertain what, if any, matters have been added, deleted or postponed, please contact:

The Office of the Secretary at (202) 551-5400.

Dated: October 23, 2012.
Kevin M. O'Neill,
Deputy Secretary.

[FR Doc. 2012-26402 Filed 10-23-12; 4:15 pm]

BILLING CODE 8011-01-P